DEPARTMENT OF LABOR

Employment and Training Administration

Investigations Regarding Certifications of Eligibility To Apply for Worker Adjustment Assistance and Alternative Trade Adjustment Assistance

Petitions have been filed with the Secretary of Labor under Section 221 (a) of the Trade Act of 1974 (“the Act”) and are identified in the Appendix to this notice. Upon receipt of these petitions, the Director of the Division of Trade Adjustment Assistance, Employment and Training Administration, has instituted investigations pursuant to Section 221 (a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than July 7, 2008.

Interested persons are invited to submit written comments regarding the subject matter of the investigations to the Director, Division of Trade Adjustment Assistance, at the address shown below, not later than July 7, 2008.

The petitions filed in this case are available for inspection at the Office of the Director, Division of Trade Adjustment Assistance, Employment and Training Administration, U.S. Department of Labor, Room C-5311, 200 Constitution Avenue, NW., Washington, DC 20210.

Signed at Washington, DC, this 18th day of June 2008.
Linda G. Poole,
Certifying Officer, Division of Trade Adjustment Assistance.

Appendix—TAA Petitions Instituted Between 6/9/08 and 6/13/08
TA-W | Subject firm (Petitioners) | Location | Date of institution | Date of petition
63499 | Kincaid Furniture Company, Inc. (Comp) | Hudson, NC | 06/09/08 | 06/05/08
63500 | Lumberton Dyeing and Finishing (Rep) | Lumberton, NC | 06/09/08 | 06/06/08
63501 | Lab Security Systems Corp (State) | Bristol, CT | 06/09/08 | 06/06/08
63502 | Onsite International, Inc. (Wkrs) | El Paso, TX | 06/09/08 | 05/20/08
63503 | 3 Day Blinds (Wkrs) | Anaheim, CA | 06/09/08 | 06/06/08
63504 | Kongsberg Automotive, Inc. (Comp) | Willis, TX | 06/09/08 | 06/05/08
63505 | Permacel Automotive (UAW) | Kansas City, MO | 06/09/08 | 06/02/08
63506 | SAPA Fabricated Products (State) | Magnolia, AR | 06/09/08 | 06/06/08
63507 | Sirenza Microdevices, Inc./RF Microdevices (State) | Broomfield, CO | 06/09/08 | 05/20/08
63508 | Bedford Logistics, Inc. (Wkrs) | Bedford, IN | 06/09/08 | 06/02/08
63509 | Robin Manufacturing USA, Inc. (Wkrs) | Hudson, WI | 06/09/08 | 06/04/08
63510 | Plastech Engineered products (Comp) | Kenton, TN | 06/09/08 | 06/06/08
63511 | Liz Claiborne/Ellen Tracy (UNITE) | North Bergen, NJ | 06/10/08 | 06/09/08
63512 | Dynamic Technology, Inc. (Comp) | Hartland, MI | 06/10/08 | 06/09/08
63513 | CIMA Plastics II Corporation (Wkrs) | Elberton, GA | 06/11/08 | 06/02/08
63514 | Plastech Engineered Products, Inc. (Wkrs) | Elwood, IN | 06/11/08 | 06/05/08
63515 | Aberdeen Fabrics, Inc. (Comp) | Red Springs, NC | 06/11/08 | 06/05/08
63516 | Morlite/Vista (Wkrs) | Pittsburgh, PA | 06/11/08 | 06/09/08
63517 | Tredegar Film Products (Union) | Marlin, PA | 06/11/08 | 06/05/08
63518 | WRR, Inc. D/B/A State Plating (Wkrs) | Elwood, IN | 06/11/08 | 06/03/08
63519 | Parlex USA (State) | Methuen, MA | 06/11/08 | 06/06/08
63520 | American Dynamics (Wkrs) | San Diego, CA | 06/11/08 | 06/06/08
63521 | Dal Tile, Inc. (Wkrs) | Dallas, TX | 06/12/08 | 06/10/08
63522 | Brockway Mould, Inc. (USW) | Brockport, PA | 06/12/08 | 06/11/08
63523 | Bee Chemical, DBA NB Coatings, Inc. (Wkrs) | Lansing, IL | 06/12/08 | 05/27/08
63524 | Tennessee Orthopaedic Alliance (Comp) | Nashville, TN | 06/12/08 | 05/31/08
63525 | Overhead Door Corporation (Union) | Lewistown, PA | 06/12/08 | 06/10/08
63526 | St. John Knits (State) | Irvine, CA | 06/12/08 | 06/11/08
63527 | Union Tank Car Company (Union) | East Chicago, IN | 06/12/08 | 05/29/08
63528 | Callaway Golf Ball Operations, Inc. (Comp) | Johnstown, NY | 06/12/08 | 06/06/08
63529 | Fisher and Company/Fisher Dynamics (Comp) | St. Clair Shores, MI | 06/13/08 | 06/12/08
63530 | McNaughton Apparel Group, Inc. (State) | New York, NY | 06/13/08 | 05/08/08
63531 | William Pinchbeck, Inc. dba Pinchbeck Roses (State) | Guilford, CT | 06/13/08 | 06/12/08
63532 | Woodward Controls, Inc. (Rep) | Niles, IL | 06/13/08 | 05/19/08
63533 | Thomasville Upholstery Plant #9 (Comp) | Hickory, NC | 06/13/08 | 06/12/08
63534 | Novtex Div. of Trimtex Company, Inc. (Comp) | Adams, MA | 06/13/08 | 06/12/08
63535 | Jefferson Plant of Leviton Manufacturing Company (Comp) | Jefferson, NC | 06/13/08 | 06/12/08
63536 | Brazing Concepts South (Comp) | Fairfield, OH | 06/13/08 | 06/12/08
63537 | Littelfuse/Account Finance Department (State) | Des Plaines, IL | 06/13/08 | 06/12/08
63538 | Plastech Engineered Products (Wkrs) | Gallatin, TN | 06/13/08 | 06/05/08
63539 | DMAX, Ltd (IUECWA) | Dayton, OH | 06/13/08 | 06/12/08
63540 | Sento Corporation (Wkrs) | Raleigh, NC | 06/13/08 | 06/09/08

[FR Doc. E8-14296 Filed 6-24-08; 8:45 am]

BILLING CODE 4510-FN-P